DEPARTMENT OF AGRICULTURE

Animal and Plant Health Inspection Service

[Docket No. APHIS-2011-0044]

Bovine Tuberculosis and Brucellosis; Program Framework

AGENCY: Animal and Plant Health Inspection Service, USDA.

ACTION: Extension of comment period.

SUMMARY: We are extending the comment period on a new framework being developed for the bovine tuberculosis and brucellosis programs in the United States. This action will allow interested persons additional time to prepare and submit comments.

DATES: We will consider all comments that we receive on or before July 5, 2011.

ADDRESSES: You may submit comments by either of the following methods:

• Federal eRulemaking Portal: Go to http://www.regulations.gov/#!docketDetail;D=APHIS-2011-0044.

• Postal Mail/Commercial Delivery: Send your comment to Docket No. APHIS-2011-0044, Regulatory Analysis and Development, PPD, APHIS, Station 3A-03.8, 4700 River Road Unit 118, Riverdale, MD 20737-1238.

Supporting documents and any comments we receive on this docket may be viewed at http://www.regulations.gov/#!docketDetail;D=APHIS-2011-0044 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Lee Ann Thomas, Director, Ruminant Health Programs, National Center for Animal Health Programs, VS, APHIS, 4700 River Road Unit 43, Riverdale, MD 20737; (301) 734-5256.

SUPPLEMENTARY INFORMATION: On May 6, 2011, we published in the Federal Register (76 FR 26239, Docket No. APHIS-2011-0044) a notice that informed the public that the U.S. Department of Agriculture (USDA) is currently developing proposed revisions to its programs regarding bovine tuberculosis (TB) and bovine brucellosis in the United States. The notice stated that USDA would hold four public meetings throughout May and June 2011 to discuss a TB and brucellosis regulatory framework developed jointly by USDA and State and Tribal representatives. In that notice, we also stated that statements on the meeting topics could be filed with USDA through June 20, 2011.

We are extending the comment period on the topics discussed at the meetings until July 5, 2011. This action will allow interested persons additional time to prepare and submit comments.

The regulatory framework is available on the Regulations.gov Web site (see ADDRESSES above) and on the APHIS Web site at http://www.aphis.usda.gov/animal_health/tb_bruc/meetings.shtml. You may also send your comments to the person listed under FOR FURTHER INFORMATION CONTACT. Please refer to Docket No. APHIS-2011-0044 when submitting your statements.

Done in Washington, DC, this 27th day of June 2011.
Kevin Shea,
Acting Administrator, Animal and Plant Health Inspection Service.

[FR Doc. 2011-16598 Filed 6-30-11; 8:45 am]

BILLING CODE 3410-34-P